DEPARTMENT OF STATE

[Public Notice: 12449]

Notice of Department of State Sanctions Actions Pursuant to the Executive Order Reimposing Certain Sanctions With Respect to Iran

SUMMARY: The Department of State is publishing the names of one or more persons that have been placed on the Department of the Treasury's List of Specially Designated Nationals and Blocked Persons (SDN List) administered by the Office of Foreign Assets Control (OFAC) based on the Department of State's determination, in consultation with other departments, as appropriate, that one or more applicable legal criteria of the Executive Order reimposing certain sanctions with respect to Iran were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On June 27, 2024, the Department of State, in consultation with other departments, as appropriate, determined that the property and interests in property subject to U.S. jurisdiction of the following persons are blocked under the relevant sanctions authority listed below.

Entities

1. SEA ROUTE SHIP MANAGEMENT FZE, Office E-26F-15, P1-ELOB, Hamriyah Free Zone, Sharjah, United Arab Emirates; Executive Order 13846 information: BLOCKING PROPERTY AND INTERESTS IN PROPERTY. Sec. 5(a)(iv); Identification Number IMO 6233526; License 18941 (United Arab Emirates); Economic Register Number (CBLS) 11583036 (United Arab Emirates) [IRAN-EO13846].

Designated pursuant to Section 3(a)(iii) of Executive Order (E.O.) 13846, Reimposing Certain Sanctions With Respect to Iran, for having knowingly engaged in a significant transaction for the purchase, acquisition, sale, transport, or marketing of petrochemical products from Iran.

2. ALMANAC SHIP MANAGEMENT LLC, Office 106, Hamsa A Building, al-Karama, Dubai, United Arab Emirates; Executive Order 13846 information: BLOCKING PROPERTY AND INTERESTS IN PROPERTY. Sec. 5(a)(iv); Identification Number IMO 6053860; License 810602 (United Arab Emirates); Economic Register Number (CBLS) 11309798 (United Arab Emirates) [IRAN-EO13846].

Designated pursuant to Section 3(a)(ii) of E.O. 13846 for having knowingly engaged in a significant transaction for the purchase, acquisition, sale, transport, or marketing of petroleum or petroleum products from Iran.

3. AL ANCHOR SHIP MANAGEMENT FZE, Executive Office D1-323, Sheikh Rashid Bin Saeed Al Maktoum Street, Ajman Free Zone, P.O. Box 932, Ajman, United Arab Emirates; Executive Order 13846 information: BLOCKING PROPERTY AND INTERESTS IN PROPERTY. Sec. 5(a)(iv); Identification Number IMO 6298746 [IRAN-EO13846].

Designated pursuant to Section 3(a)(ii) of E.O. 13846 for having knowingly engaged in a significant transaction for the purchase, acquisition, sale, transport, or marketing of petroleum or petroleum products from Iran.

Vessels

1. ASTRA (TRAA3) Chemical/Products Tanker Gabon flag; Vessel Registration Identification IMO 9162928; MMSI 626152000 (vessel) [IRAN-EO13846] (Linked To: SEA ROUTE SHIP MANAGEMENT FZE).

Identified pursuant to E.O. 13846 as property in which SEA ROUTE SHIP MANAGEMENT FZE, an entity whose property interest in property are blocked pursuant to E.O. 13846, has an interest.

2. BALTIC HORIZON (a.k.a. PETRA) (3E5422) Chemical/Products Tanker Panama flag; Vessel Registration Identification IMO 9263382; MMSI 352004038 (vessel) [IRAN-EO13846] (Linked To: SEA ROUTE SHIP MANAGEMENT FZE).

Identified pursuant to E.O. 13846 as property in which SEA ROUTE SHIP MANAGEMENT FZE, an entity whose property interest in property are blocked pursuant to E.O. 13846, has an interest.

3. NILE (a.k.a. LIA) (E5U5135) Chemical/Products Tanker Cook Islands flag; Vessel Registration Identification IMO 9411288; MMSI 518999154 (vessel) [IRAN-EO13846] (Linked To: SEA ROUTE SHIP MANAGEMENT FZE).

Identified pursuant to E.O. 13846 as property in which SEA ROUTE SHIP MANAGEMENT FZE, an entity whose property interest in property are blocked pursuant to E.O. 13846, has an interest.

4. YAMUNA (a.k.a. ARGO) (E5U5133) Oil Products Tanker Cook Islands flag; Vessel Registration Identification IMO 9572111; MMSI 518999152 (vessel) [IRAN-EO13846] (Linked To: SEA ROUTE SHIP MANAGEMENT FZE).

Identified pursuant to E.O. 13846 as property in which SEA ROUTE SHIP MANAGEMENT FZE, an entity whose property interest in property are blocked pursuant to E.O. 13846, has an interest.

5. BERENICE PRIDE (3EEX7) Oil Products Tanker Panama flag; Vessel Registration Identification IMO 9216559; MMSI 357776000 (vessel) [IRAN-EO13846] (Linked To: ALMANAC SHIP MANAGEMENT LLC).

Identified pursuant to E.O. 13846 as property in which ALMANAC SHIP MANAGEMENT LLC, an entity whose property interest in property are blocked pursuant to E.O. 13846, has an interest.

6. HARMONY (D6A2833) Tug Comoros flag; Vessel Registration Identification IMO 8400945 (vessel) [IRAN-EO13846] (Linked To: ALMANAC SHIP MANAGEMENT LLC).

Identified pursuant to E.O. 13846 as property in which ALMANAC SHIP MANAGEMENT LLC, an entity whose property interest in property are blocked pursuant to E.O. 13846, has an interest.

7. EURO VIKING (V4XD4) Chemical/Oil Tanker St. Kitts and Nevis flag; Vessel Registration Identification IMO 9309239; MMSI 341729000 (vessel) [IRAN-EO13846] (Linked To: ALMANAC SHIP MANAGEMENT LLC).

Identified pursuant to E.O. 13846 as property in which ALMANAC SHIP MANAGEMENT LLC, an entity whose property interest in property are blocked pursuant to E.O. 13846, has an interest.

8. EURO FORTUNE (V4WB4) Chemical/Oil Tanker St. Kitts and Nevis flag; Vessel Registration Identification IMO 9281554; MMSI 341675000 (vessel) [IRAN-EO13846] (Linked To: ALMANAC SHIP MANAGEMENT LLC).

Identified pursuant to E.O. 13846 as property in which ALMANAC SHIP MANAGEMENT LLC, an entity whose property interest in property are blocked pursuant to E.O. 13846, has an interest.

9. ARABIAN ENERGY (3E3473) Chemical/Products Tanker Panama flag; Vessel Registration Identification IMO 9417490; MMSI 352001565 (vessel) [IRAN-EO13846] (Linked To: ALMANAC SHIP MANAGEMENT LLC).

Identified pursuant to E.O. 13846 as property in which ALMANAC SHIP MANAGEMENT LLC, an entity whose property interest in property are blocked pursuant to E.O. 13846, has an interest.

10. PARINE (8PBL8) Crude Oil Tanker Barbados flag; Vessel Registration Identification IMO 9257503; MMSI 314642000 (vessel) [IRAN-EO13846] (Linked To: AL ANCHOR SHIP MANAGEMENT FZE).

Identified pursuant to E.O. 13846 as property in which AL ANCHOR SHIP MANAGEMENT FZE, an entity whose property interest in property are blocked pursuant to E.O. 13846, has an interest.

11. ROAD (8PBL7) Crude Oil Tanker Barbados flag; Vessel Registration Identification IMO 9229362; MMSI 314641000 (vessel) [IRAN-EO13846] (Linked To: AL ANCHOR SHIP MANAGEMENT FZE).

Identified pursuant to E.O. 13846 as property in which AL ANCHOR SHIP MANAGEMENT FZE, an entity whose property interest in property are blocked pursuant to E.O. 13846, has an interest.

Amy E. Holman,
Principal Deputy Assistant Secretary, Bureau of Economic and Business Affairs, Department of State.

[FR Doc. 2024-15105 Filed 7-9-24; 8:45 am]

BILLING CODE 4710-07-P